DEPARTMENT OF TRANSPORTATION

Federal Motor Carrier Safety Administration

Sunshine Act Meetings; Unified Carrier Registration Plan Board of Directors

AGENCY: Federal Motor Carrier Safety Administration (FMCSA), DOT.

Time and Date: January 14, 2008, 1 p.m. to 5 p.m., and January 15, 2008, 8 a.m. to 12 p.m., Eastern Standard Time.

Place: This meeting will take place at the Belleview Biltmore, 25 Belleview Boulevard, Clearwater, Florida 33756.

Status: Open to the public.

Matters to be Considered: The Unified Carrier Registration Plan Board of Directors (the Board) will continue its work in developing and implementing the Unified Carrier Registration Plan and Agreement and to that end, may consider matters properly before the Board.

FOR FURTHER INFORMATION CONTACT: Mr. Avelino Gutierrez, Chair, Unified Carrier Registration Board of Directors at (505) 827-4565.

Dated: December 27, 2007.
William A. Quade,
Associate Administrator for Enforcement and Program Delivery.

[FR Doc. 08-19 Filed 1-3-08; 12:20 pm]

BILLING CODE 4910-EX-P